DEPARTMENT OF THE INTERIOR

Bureau of Land Management

[LLNVB00000 L71220000.EU0000.LVTFF1302680.241A; N-90179; 14-08807; MO#4500060182]

Notice of Realty Action: Proposed Direct Sale of Public Land for a Cemetery (N-90179) in Nye County, NV

AGENCY: Bureau of Land Management, Interior.

ACTION: Notice of realty action.

SUMMARY: The Bureau of Land Management (BLM) is offering to sell a parcel of public land containing 7.5 acres as a non-competitive (direct) sale for a cemetery at not less than the appraised fair market value (FMV) of $6,500 to Nye County. The BLM is proposing to use the direct sale procedures consistent with the requirements of Section 203 of the Federal Land Policy and Management Act of 1976 (FLPMA), as amended, and the applicable regulations.

DATES: Interested persons may submit written comments to the BLM at the address below. The BLM must receive your comments on or before July 7, 2014.

ADDRESSES: Bureau of Land Management, Tonopah Field Office, 1553 S. Main Street, P.O. Box 911, Tonopah, NV 89049.

FOR FURTHER INFORMATION CONTACT: Wendy Seley, Realty Specialist, at the above address or by telephone at 775-482-7805. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will conduct a direct sale for the following described public land located one-half mile west of the Town of Manhattan, Nye County, Nevada.

Mount Diablo Meridian

T. 8 N., R. 43 E.,

Sec. 24, S½SE¼SW¼SE¼NE¼, SE¼SW¼SW¼SE¼NE¼, NE¼NW¼NE¼SE¼, E½NW¼NW¼NE¼SE¼, N½SE¼NW¼NE¼SE¼, NE¼SW¼NW¼NE¼SE¼.

The area described contains 7.5 acres.

Upon publication of this notice in the Federal Register, the described land will be segregated from all forms of appropriation under the public land laws, including the mining laws, except for the sale provisions of FLPMA. Upon publication of this Notice of Realty Action and until completion of the sale, the BLM will no longer accept land use applications affecting the identified public lands, except applications for the amendment of previously filed right-of-way applications or existing authorizations to increase the term of the grants in accordance with 43 CFR 2807.15 and 2886.15. The segregated effect will terminate upon issuance of a patent, publication in the Federal Register of a termination of the segregation, or on May 20, 2016 unless extended by the BLM Nevada State Director in accordance with 43 CFR 2711.1-2(d) prior to the termination date.

Under FLPMA, Section 203(a)(3) and 43 CFR 2710.0-3(a)(2), the disposal of such tract will serve important public objectives, including but not limited to, expansion of communities and economic development, which cannot be achieved prudently or feasibly on lands other than public lands and which outweigh other public objectives and values. Consistent with Section 203 of FLPMA, a tract of public land may be sold as a result of approved land use planning if the sale of the tract meets the disposal criteria of that section. The public land in question has been identified as suitable for disposal in the BLM Tonopah Resource Management Plan (RMP), Appendix 14, pages A-46 through A-49, dated October 2, 1997. The parcel is not required for any other Federal purpose. Regulations contained in 43 CFR 2711.3-3(a)(1) make allowances for direct sales when a competitive sale is not appropriate and the public interest would be best served by a direct sale. Here the parcel in question is being transferred to State or local government and given its location is important to the existing cemetery. Additionally, the proposed direct sale would also help address an inadvertent trespass on a portion of the proposed sale parcel. Thus, the proposed action is consistent with 43 CFR part 2710, the objectives, goals, and decisions of the RMP such as the Lands and Realty objective to make lands available for community expansion and private economic development and to increase the potential for economic diversity.

The BLM has prepared environmental assessment (EA) DOI-BLM-NV-B020-2011-0144-EA for the proposed sale, and has decided to make it available for comment. The comment period on the environmental assessment will end concurrently with the close of the comment period associated with this Notice of Realty Action. The EA, Environmental Site Assessment, Mineral Potential Report, map, and approved appraisal report are available for review at the Tonopah Field Office at the address in the ADDRESSES section and online at the Battle Mountain District Web site at: http://www.blm.gov/nv/st/en/fo/battle_mountain_field.html.

In order to determine the FMV through appraisal, certain extraordinary assumptions and hypothetical conditions are made concerning the attributes and limitations of the land and potential effects of local regulations and policies on potential future land uses. Through publication of this Notice, the BLM advises that these assumptions may not have been endorsed or approved by units of local government.

Nye County expressed an interest in purchasing, by direct sale, the surface estate of these lands as the permanent site for a cemetery. As proof of interest, Nye County approved Resolution No. 2011-97, “A Resolution Authorizing the Submission of Notice to the United States Department of the Interior, Bureau of Land Management that Nye County Requests a Direct Sale for the Real Property Commonly Known as the Mount Moriah Cemetery Located in Manhattan, NV for use as a Cemetery and Authorizing the Chairman to Execute All Documents and to Take Such Other Actions as Required to Secure Issuance of the Subject Land” on August 6, 2011. The proposed sale parcel includes the 2.3-acre cemetery historically used since the early 1900s. The BLM proposes a direct sale because it serves an important local public objective of facilitating Nye County's efforts to provide for the expansion of the existing cemetery.

The public land will not be offered for sale prior to 60 days from the date this notice is published in the Federal Register. The patent, if issued, would be subject to the following terms, conditions, and reservations:

1. A reservation for any right-of-way thereon for ditches or canals constructed by the authority of the United States, Act of August 30, 1890 (43 U.S.C. 945).

2. A reservation for all mineral deposits in the land so patented, and to it, or persons authorized by it, the right to prospect for, mine and remove such deposits from the same under applicable law and regulations to be established by the Secretary of the Interior.

The parcel is also subject to all valid existing rights including but not limited to:

1. Right-of-Way N-49546 (Easement N-92455) for a water pipeline serving the Manhattan Mill granted to Round Mountain Gold Corporation, its successors or assigns, pursuant to the Act of October 21, 1976 (43 U.S.C. 1761).

2. Right-of-Way N-49749 (Easement N-92453) for aerial line purposes granted to Sierra Pacific Power Company, its successors or assigns, pursuant to the Act of October 21, 1976 (43 U.S.C. 1761).

3. Right-of-Way N-54823 (Easement N-92454) for a water pipeline serving the Town of Manhattan granted to Nye County, its successors or assigns, pursuant to the Act of October 21, 1976 (43 U.S.C. 1761).

The purchaser, by accepting the patent, agrees to indemnify, defend, and hold the United States harmless from any costs, damages, claims, causes of action, penalties, fines, liabilities, and judgments of any kind arising from the past, present, or future acts or omissions of the patentee, its employees, agents, contractors, or lessees, or any third party arising out of, or in connection with, the patentee's use, occupancy or operations on the patented real property. This indemnification and hold-harmless agreement includes, but is not limited to, acts and omissions of the patentee, its employees, agents, contractors, or lessees, or third party arising out of or in connection with the use and/or occupancy of the patented real property resulting in: (1) Violations of Federal, State, and local laws and regulations that are now, or in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into, or under land, property, and other interests of the United States; (5) Other activities by which solid or hazardous substances or wastes, as defined by Federal and State environmental laws are generated, released, stored, used, or otherwise disposed of on the patented real property, and any cleanup response, remedial action, or other actions related in any manner to said solid or hazardous substances or wastes; or (6) Natural resource damages as defined by Federal and State law. This covenant will run with the patented real property and may be enforced by the United States in a court of competent jurisdiction.

Pursuant to the requirements established by Section 120(h) of the Comprehensive Environmental Response, Compensation and Liability Act, 42 U.S.C. 9620(h) (CERCLA), as amended by the Superfund Amendments and Reauthorization Act of 1988 (100 Stat. 1670), notice is hereby given that the above-described lands have been examined and no evidence was found to indicate that any hazardous substances have been stored for 1 year or more, nor had any hazardous substances been disposed of or released on the subject property. To the extent required by law, all parcels are subject to the requirements of Section 120(h) of CERCLA.

No representation, warranty, or covenant of any kind, express or implied, will be given or made by the United States, its officers or employees as to access to or from the above-described parcel of land, the title to the land, whether or to what extent the land may be developed, its physical condition or its past, present or potential uses, and the conveyance of any such parcel will not be on a contingency basis. It is the responsibility of the buyer to be aware of all applicable Federal, State, and local government policies and regulations that would affect the subject lands. It is also the buyer's responsibility to be aware of existing or prospective uses of nearby properties. Lands without access from a public road or highway will be conveyed as such, and future access acquisition will be the responsibility of the buyer.

The BLM prepared a mineral potential report, dated January 6, 2014, which concluded that all minerals rights should be reserved to the United States Government. Mining claim holders Round Mountain Gold Corporation and A.U. Mines, Inc., would be required to amend a portion of the only active mining claims on the land identified for the proposed sale area prior to conveyance.

The purchaser will have 30 days from the date of receiving the sale offer to accept the offer and to submit a deposit of 20 percent of the purchase price, appraisal, and payment of publication costs. The purchaser must remit the remainder of the purchase price within 180 days from the date of the sale offer. Payments must be by certified check, U.S. postal money order, bank draft, or cashier's check, and made payable to the U.S. Department of the Interior—BLM or conduct an electronic funds transfer. The balance is due 2 weeks prior to 180th day if the purchaser conducts an electronic funds transfer. Failure to meet conditions established for this sale will void the sale and forfeit any payment(s) received.

Before including your address, phone number, email address, or other personal identifying information in your comment, be advised that your entire comment—including your personal identifying information—may be made publicly available at any time. While you can ask us in your comment to withhold from public review your personal identifying information, we cannot guarantee that we will be able to do so. Any adverse comments regarding the proposed sale will be reviewed by the BLM Nevada State Director or other authorized official of the Department of the Interior, who may sustain, vacate, or modify this realty action in whole or in part. In the absence of timely filed objections, this realty action will become the final determination of the

Authority: 43 CFR 2711.1-2(a) and (c).

Department of the Interior.
Timothy J. Coward,
Field Manager, Tonopah.

[FR Doc. 2014-11612 Filed 5-19-14; 8:45 am]

BILLING CODE 4310-HC-P